DEPARTMENT OF TRANSPORTATION

Federal Aviation Administration

14 CFR Part 39

[Docket No. FAA-2023-1054; Project Identifier MCAI-2022-01513-G]

RIN 2120-AA64

Airworthiness Directives; Schempp-Hirth Flugzeugbau GmbH Gliders

AGENCY: Federal Aviation Administration (FAA), DOT.

ACTION: Notice of proposed rulemaking (NPRM).

SUMMARY: The FAA proposes to adopt a new airworthiness directive (AD) for Schempp-Hirth Flugzeugbau GmbH (Schempp-Hirth) Model Ventus-2a and Ventus-2b gliders. This proposed AD results from mandatory continuing airworthiness information (MCAI) originated by an aviation authority of another country to identify and correct an unsafe condition on an aviation product. The MCAI identifies the unsafe condition as the uncommanded extraction of the airbrakes on one or both wings, possibly resulting in reduced control of the glider. This proposed AD would require repetitively inspecting airbrake bell cranks and airbrake drive funnels for cracking, repetitively inspecting the clearance of the airbrake control system, and taking corrective action as necessary. This proposed AD would also require modifying the airbrake system, which is terminating action for the repetitive inspections. The FAA is proposing this AD to address the unsafe condition on these products.

DATES: The FAA must receive comments on this NPRM by July 24, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1054; or in person at Docket Operations between 9 a.m. and 5 p.m., Monday through Friday, except Federal holidays. The AD docket contains this NPRM, the MCAI, any comments received, and other information. The street address for Docket Operations is listed above.

Material Incorporated by Reference

• For service information identified in this NPRM, contact Schempp-Hirth Flugzeugbau GmbH, Krebenstrasse 25, Kirchheim unter Teck, Germany; phone: +49 7021 7298-0; email: info@schempp-hirth.com; website: schempp-hirth.com.

• You may view this service information at the FAA, Airworthiness Products Section, Operational Safety Branch, 901 Locust, Kansas City, MO 64106. For information on the availability of this material at the FAA, call (817) 222-5110.

FOR FURTHER INFORMATION CONTACT: Jim Rutherford, Aviation Safety Engineer, International Validation Branch, FAA, 1600 Stewart Avenue, Suite 410, Westbury, NY 11590; phone: (816) 329-4165; email: jim.rutherford@faa.gov.

SUPPLEMENTARY INFORMATION:

Comments Invited

The FAA invites you to send any written relevant data, views, or arguments about this proposal. Send your comments to an address listed under ADDRESSES. Include “Docket No. FAA-2023-1054; Project Identifier MCAI-2022-01513-G” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jim Rutherford, Aviation Safety Engineer, International Validation Branch, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2022-0229, dated November 28, 2022 (referred to after this as “the MCAI”), to correct an unsafe condition on all Schempp-Hirth Model Ventus-2a and Ventus-2b gliders. The MCAI states that permanent excessive loads on the automatic connections of the airbrake control system can cause damage to the drive funnels in the fuselage and to the airbrake bell cranks at the root ribs of the wings. The MCAI requires repetitively inspecting the airbrake bell cranks and drive funnels for damage, inspecting the airbrake control system for clearance, corrective actions if necessary, and modifying the airbrake control system by replacing the airbrake bell cranks with reinforced airbrake bell cranks and replacing airbrake drive funnels with reinforced drive funnels. The MCAI states that this modification is terminating action for the repetitive inspections.

This condition, if not detected and corrected, could lead to the uncommanded extraction of the airbrakes on one or both wings and result in reduced control of the glider.

You may examine the MCAI in the AD docket at regulations.gov under Docket No. FAA-2023-1054.

Related Service Information Under 1 CFR Part 51

The FAA reviewed Schempp-Hirth Technical Note 349-43, dated August 9, 2022, which specifies procedures for inspecting the automatic airbrake control connections, including the airbrake bell cranks, for any crack or damage at the welding seams, the airbrake drive funnels for any crack or damage at the welding seams, and the clearance of the airbrake control system, and modifying the airbrake control system by replacing airbrake bell cranks with reinforced airbrake bell cranks and replacing airbrake drive funnels with reinforced drive funnels.

The FAA also reviewed Schempp-Hirth Working Instruction for Technical Note 349-43, dated August 9, 2022 (Schempp-Hirth Working Instruction TN 349-43), which specifies procedures for inspecting the clearance of the airbrake control system in the wings, inspecting the airbrake bell crank and airbrake drive funnel to determine if a reinforced airbrake bell crank and a reinforced airbrake drive funnel are already installed, replacing any airbrake bell crank that is not reinforced with a mounting plate having a reinforced airbrake bell crank attached, replacing any airbrake drive funnel that is not reinforced with a reinforced airbrake drive funnel, checking the control system of the wings after installation of any reinforced parts, and adjusting the control system as necessary. This service information also specifies contacting the manufacturer if it is determined that there is interference among the components of the airbrake control system and adjustments to the airbrake control system are needed.

This service information is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI and service information described above. The FAA is issuing this NPRM after determining that the unsafe condition described previously is likely to exist or develop on other products of the same type design.

Proposed AD Requirements in This NPRM

This proposed AD would require accomplishing the actions specified in the MCAI, except as discussed under “Differences Between this Proposed AD and the Service Information.”

Differences Between This Proposed AD and the Service Information

Schempp-Hirth Working Instruction TN 349-43 specifies to contact the manufacturer if it is determined that there is interference between the components of the airbrake control system and adjustments to the airbrake control system are needed. This proposed AD would require doing those adjustments in accordance with a method approved by the FAA; EASA; or Schempp-Hirth's EASA Design Organization Approval (DOA). If approved by the DOA, the approval must include the DOA-authorized signature.

Schempp-Hirth Working Instruction TN 349-43 specifies to purchase a new mounting plate with a reinforced airbrake bell crank installed from the manufacturer or its international representative. This proposed AD would not specify the source from which new parts should be purchased.

Costs of Compliance

The FAA estimates that this AD, if adopted as proposed, would affect 32 gliders of U.S. registry.

The FAA estimates the following costs to comply with this proposed AD:

Estimated Costs
Action | Labor cost | Parts cost | Cost per product | Cost on U.S. operators
* Inspect airbrake bell cranks and drive funnels | 4 work-hours × $85 per hour = $340 | $0 | $340 per inspection cycle | $10,880 per inspection cycle.
* Inspect clearance of airbrake control system | 4 work-hours × $85 per hour = $340 | 0 | $340 per inspection cycle | $10,880 per inspection cycle.
Replace airbrake bell cranks and drive funnels | 8 work-hours × $85 per hour = $680 | 1,000 | $1,680 | $53,760.
* The cost estimates provided for the inspection of the airbrake bell cranks and drive funnels and the inspection of the airbrake control system clearance are for the first occurrence. If no cracks are found, then the inspection is repeated at intervals not to exceed 100 hours time-in-service. The replacement of the bell cranks and drive funnels occurs if any cracking is found during the inspection (on-condition) or within 12 months (required action), whichever occurs first.

The FAA estimates the following costs to do any necessary actions that would be required based on the results of the proposed inspection. The agency has no way of determining the number of gliders that might need this action:

On-Condition Costs
Action | Labor cost | Parts cost | Cost per product
Replace airbrake bell cranks and drive funnels | 8 work-hours × $85 per hour = $680 | $1,000 | $1,680

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Schempp-Hirth Flugzeugbau GmbH: Docket No. FAA-2023-1054; Project Identifier MCAI-2022-01513-G.

(a) Comments Due Date

The FAA must receive comments on this airworthiness directive (AD) by July 24, 2023.

(b) Affected ADs

None.

(c) Applicability

This AD applies to Schempp-Hirth Flugzeugbau GmbH (Schempp-Hirth) Model Ventus-2a and Ventus-2b gliders, all serial numbers, certificated in any category.

(d) Subject

Joint Aircraft System Component (JASC) Code 2760, Drag Control System.

(e) Unsafe Condition

This AD was prompted by mandatory continuing airworthiness information (MCAI) originated by an aviation authority of another country to identify and correct an unsafe condition on an aviation product. The MCAI identifies the unsafe condition as the uncommanded extraction of the airbrakes on one or both wings, possibly resulting in reduced control of the glider. The FAA is issuing this AD to address this condition. The unsafe condition, if not addressed, could result in reduced control of the glider.

(f) Compliance

Comply with this AD within the compliance times specified, unless already done.

(g) Required Actions

(1) Within 40 days after the effective date of this AD and thereafter at intervals not to exceed 100 hours time-in-service (TIS), do the actions in paragraphs (g)(1)(i) and (ii) of this AD.

(i) Inspect the airbrake bell cranks and airbrake drive funnels for cracking at the welding seams, in accordance with Action paragraphs 1a) and 1b) in Schempp-Hirth Technical Note 349-43, dated August 9, 2022 (Schempp-Hirth TN 349-43).

(ii) Inspect the clearance of the airbrake control system, in accordance with Action paragraph 1c) in Schempp-Hirth TN 349-43; and Action paragraph 1.c) in Schempp-Hirth Working Instruction for Technical Note 349-43 dated August 9, 2022 (Schempp-Hirth Working Instruction TN 349-43). Where Schempp-Hirth Working Instruction TN 349-43 specifies “if in doubt” use plasticine lines, this AD requires using plasticine lines.

Note 1 to paragraph (g)(1): This service information contains German to English translation. The European Union Aviation Safety Agency (EASA) used the English translation in referencing the document from Schempp-Hirth. For enforceability purposes, the FAA will refer to the Schempp-Hirth service information in English as it appears on the document.

(2) If, during any inspection required by paragraph (g)(1)(i) of this AD, any cracking at the welding seams is detected, before next flight, do the applicable corrective actions in accordance with Action paragraph(s) 2a), 2b), 2c), and 2d), in Schempp-Hirth TN 349-43; and Action paragraph(s) 2.a), 2.b), 2.c), and 2.d), in Schempp-Hirth Working Instruction TN 349-43. Where Schempp-Hirth Working Instruction TN 349-43 specifies to purchase a new mounting plate with a reinforced airbrake bell crank installed from the manufacturer or its international representative, this AD does not specify the source from which new parts should be purchased.

(3) If, during any inspection required by paragraph (g)(1)(ii) of this AD, it is determined that there is interference among the components of the airbrake control system and adjustments to the airbrake control system are needed, do those adjustments in accordance with a method approved by the FAA; EASA; or Schempp-Hirth's EASA Design Organization Approval (DOA). If approved by the DOA, the approval must include the DOA-authorized signature.

(4) Unless already accomplished as required by paragraph (g)(2) of this AD, within 12 months after the effective date of this AD, replace the airbrake bell cranks with reinforced airbrake bell cranks and replace the airbrake drive funnels with reinforced drive funnels, in accordance with Action paragraph 2d) in Schempp-Hirth TN 349-43; and Action paragraph(s) 2.a), 2.b), 2.c), and 2.d), in Schempp-Hirth Working Instruction TN 349-43. Where Schempp-Hirth Working Instruction TN 349-43 specifies to purchase a new mounting plate with a reinforced airbrake bell crank installed from the manufacturer or its international representative, this AD does not specify the source from which new parts should be purchased.

(5) Replacement on a glider of each airbrake bell crank and airbrake drive funnel with a reinforced airbrake bell crank and a reinforced airbrake drive funnel, as required by paragraph (g)(2) or paragraph (g)(4) of this AD, constitutes terminating action for the repetitive inspections required by paragraph (g)(1) of this AD for that glider. The initial inspection is required for all gliders.

(h) Alternative Methods of Compliance (AMOCs)

The Manager, International Validation Branch, FAA, has the authority to approve AMOCs for this AD, if requested using the procedures found in § 39.19. In accordance with § 39.19, send your request to your principal inspector or local Flight Standards District Office, as appropriate. If sending information directly to the manager of the International Validation Branch, send it to the attention of the person identified in paragraph (i)(2) of this AD or email to: 9-AVS-AIR-730-AMOC@faa.gov. If mailing information, also submit information by email.

(i) Additional Information

(1) Refer to EASA AD 2022-0229, dated November 28, 2022, for related information. This EASA AD may be found in the AD docket at regulations.gov under Docket No. FAA-2023-1054.

(2) For more information about this AD, contact Jim Rutherford, Aviation Safety Engineer, International Validation Branch, FAA, 1600 Stewart Avenue, Suite 410, Westbury, NY 11590; phone: (816) 329-4165; email: jim.rutherford@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Schempp-Hirth Flugzeugbau GmbH Technical Note 349-43, dated August 9, 2022.

(ii) Schempp-Hirth Flugzeugbau GmbH Working Instruction for Technical Note 349-43, dated August 9, 2022.

Note 1 to paragraph (j)(2): This service information contains German to English translation. EASA used the English translation in referencing the document from Schempp-Hirth Flugzeugbau GmbH. For enforceability purposes, the FAA will refer to the Schempp-Hirth Flugzeugbau GmbH service information in English as it appears on the document.

(3) For service information identified in this AD, contact Schempp-Hirth Flugzeugbau GmbH, Krebenstrasse 25, Kirchheim unter Teck, Germany; phone: +49 7021 7298-0; email: info@schempp-hirth.com; website: schempp-hirth.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on June 2, 2023.
Michael Linegang,
Acting Director, Compliance & Airworthiness Division, Aircraft Certification Service.

[FR Doc. 2023-12302 Filed 6-8-23; 8:45 am]

BILLING CODE 4910-13-P